DEPARTMENT OF COMMERCE

International Trade Administration

[C-580-818]

Corrosion-Resistant Carbon Steel Flat Products From the Republic of Korea: Final Results of Countervailing Duty Administrative Review; 2010

AGENCY: Import Administration, International Trade Administration, Department of Commerce.

SUMMARY: The Department of Commerce (the Department) has completed its administrative review of the countervailing duty (CVD) order on corrosion-resistant carbon steel flat products from the Republic of Korea for the period January 1, 2010, through December 31, 2010. On September 21, 2012, we published the preliminary results of this review.¹ In these final results we find that the respondents, Dongbu Steel Co., Ltd. (Dongbu), Hyundai HYSCO Ltd. (HYSCO), and Pohang Iron & Steel Co. Ltd. (POSCO), received subsidies that result in de minimis net subsidy rates.

¹ See Corrosion-Resistant Carbon Steel Flat Products From the Republic of Korea: Preliminary Results of Countervailing Duty Administrative Review, 77 FR 58512 (September 21, 2012) (Preliminary Results).

DATES: Effective Date: March 29, 2013.

FOR FURTHER INFORMATION CONTACT: Robert Copyak or Andrew Medley, AD/CVD Operations, Office 8, Import Administration, U.S. Department of Commerce, 14th Street and Constitution Avenue NW., Washington, DC 20230; telephone (202) 482-2209 and (202) 482-4987, respectively.

SUPPLEMENTARY INFORMATION:

Background

On September 21, 2012, we published the Preliminary Results in the Federal Register. Following the Preliminary Results, from January 16 through January 25, 2013, we conducted verification of the questionnaire responses submitted by Dongbu, HYSCO, POSCO, and the Government of the Republic of Korea (GOK). We issued the verification reports in February. We received case briefs from POSCO, HYSCO, and Nucor Corporation (Nucor) on February 27, 2013, and rebuttal briefs from United States Steel Corporation (U.S. Steel), Nucor, and HYSCO on March 4, 2013. We did not hold a hearing in this review, as one was not requested.

Scope of the Order

Products covered by this order are certain corrosion-resistant carbon steel flat products from Korea. The merchandise subject to this order is currently classifiable in the Harmonized Tariff Schedule of the United States (HTSUS) at subheadings: 7210.30.0000, 7210.31.0000, 7210.39.0000, 7210.41.0000, 7210.49.0030, 7210.49.0090, 7210.49.0091, 7210.49.0095, 7210.60.0000, 7210.61.0000, 7210.69.0000, 7210.70.6030, 7210.70.6060, 7210.70.6090, 7210.90.1000, 7210.90.6000, 7210.90.9000, 7212.20.0000, 7212.21.0000, 7212.29.0000, 7212.30.1030, 7212.30.1090, 7212.30.3000, 7212.30.5000, 7212.40.1000, 7212.40.5000, 7212.50.0000, 7212.60.0000, 7215.90.1000, 7215.9030, 7215.90.5000, 7217.12.1000, 7217.13.1000, 7217.19.1000, 7217.19.5000, 7217.20.1500, 7217.22.5000, 7217.23.5000, 7217.29.1000, 7217.29.5000, 7217.30.15.0000, 7217.32.5000, 7217.33.5000, 7217.39.1000, 7217.39.5000, 7217.90.1000 and 7217.90.5000.

Although the HTSUS numbers are provided for convenience and customs purposes, the written product description, available in the Preliminary Results, remains dispositive.

Analysis of Comments Received

All issues raised in the case briefs and rebuttal briefs are addressed in the Memorandum from Gary Taverman, Senior Advisor for Antidumping and Countervailing Duty Operations, to Paul Piquado, Assistant Secretary for Import Administration, entitled “Issues and Decision Memorandum for the Final Results of the Countervailing Duty Administrative Review of Corrosion-Resistant Carbon Steel Flat Products from Korea; 2010,” dated March 22, 2013 (Issues and Decision Memorandum), which is hereby adopted by this notice. A list of the issues raised is attached to this notice as Appendix I. The Issues and Decision Memorandum is a public document and is available on file electronically via Import Administration's Antidumping and Countervailing Duty Centralized Electronic Service System (IA ACCESS). IA ACCESS is available to registered users at http://iaaccess.trade.gov and in the Central Records Unit, room 7046 of the main Department of Commerce building. In addition, a complete version of the Issues and Decision Memorandum can be accessed directly on the internet at http://www.trade.gov/ia/. The signed Issues and Decision Memorandum and the electronic versions of the Issues and Decision Memorandum are identical in content.

Final Results of Review

In accordance with 19 CFR 351.221(b)(5), we calculated net subsidy rates for Dongbu, POSCO, and HYSCO of 0.12, 0.16, and 0.19 percent ad valorem, respectively, which are de minimis rates. See 19 CFR 351.106(c)(1).

Assessment Rates

The Department intends to issue appropriate assessment instructions directly to U.S. Customs and Border Protection (CBP) 15 days after the date of publication of these final results, to liquidate shipments of subject merchandise by Dongbu, POSCO, and HYSCO entered, or withdrawn from warehouse, for consumption on or after January 1, 2010, through December 31, 2010.

Cash Deposit Instructions

On March 19, 2013, the Department published the Revocation Notice in the Federal Register in which it explained that 15 days after the publication date of the Revocation Notice, the Department would instruct CBP to terminate the suspension of liquidation and to discontinue the collection of cash deposits on entries of the subject merchandise, entered or withdrawn from warehouse, on or after February 14, 2012.² Pursuant to the Revocation Notice the Department will further instruct CBP to refund with interest all cash deposits on entries made on or after February 14, 2012. Further, as explained in the Revocation Notice, entries of subject merchandise prior to the effective date of revocation will continue to be subject to suspension of liquidation and antidumping and/or countervailing duty deposit requirements and assessments. Lastly, in the Revocation Notice, the Department explained that it will complete any pending or requested administrative reviews of these orders covering entries prior to February 14, 2012.³

² See Corrosion-Resistant Carbon Steel Flat Products from Germany and the Republic of Korea: Revocation of Antidumping and Countervailing Duty Orders, 78 FR 16832 (March 19, 2013) (Revocation Notice).

³ Id.

Thus, as a result of the revocation of the order, the Department will not issue cash deposit instructions in connection with this administrative review.

Administrative Protective Order

This notice serves as a reminder to parties subject to administrative protective order (APO) of their responsibility concerning the return or destruction of proprietary information disclosed under APO in accordance with 19 CFR 351.305(a)(3). Timely written notification of return or destruction of APO materials or conversion to judicial protective order is hereby requested. Failure to comply with the regulations and the terms of an APO is a sanctionable violation.

Disclosure

We will disclose the calculations performed within five days of the date of publication of this notice to parties in this proceeding, in accordance with 19 CFR 351.224(b).

We are issuing and publishing these results in accordance with sections 751(a)(1) and 777(i)(1) of the Tariff Act of 1930, as amended.

Dated: March 22, 2013.
Paul Piquado,
Assistant Secretary for Import Administration.

Appendix—Issues in Decision Memorandum

Comment 1: Whether Two Additional R&D Projects for Which Information Was Collected during POSCO's Verification Should be Included in the Benefit Calculation for the Industrial Technology Innovation Promotion Act (ITIPA) Program

Comment 2: Whether HYSCO's Sales to Cross-Owned Affiliates Should be Included in the Sales Denominators

Comment 3: Whether to Apply Adverse Facts Available with Regard to HYSCO's D/A Financing Under KEXIM's Trade Rediscount Program and HYSCO's D/A Loans Issued by the KDB and Other Government-Owned Banks

Comment 4: Whether Three of HYSCO's R&D Grants are Tied to Non-Subject Merchandise

Comment 5: Whether HYSCO's Overseas Development Loans are Tied to Non-Subject Merchandise

[FR Doc. 2013-07402 Filed 3-28-13; 8:45 am]

BILLING CODE 3510-DS-P